DEPARTMENT OF ENERGY

Federal Energy Regulatory Commission

[Docket No. CP09-427-000]

Columbia Gas Transmission, LLC; Notice of Request Under Blanket Authorization

June 18, 2009.

Take notice that on June 4, 2009, Columbia Gas Transmission, LLC (Columbia), 5151 San Felipe, Suite 2500, Houston, Texas 77056, filed a prior notice request pursuant to sections 157.205, 157.208, and 157.216 of the Commission's regulations under the Natural Gas Act (NGA) and Columbia's blanket certificate issued in Docket No. CP83-76-000, for NGA certification to construct, uprate, replace, relocate, and abandon certain natural gas facilities, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Columbia states that Range Resources Appalachia LLC (Range Resources) has requested Columbia to transport 150,000 dekatherms per day (Dth/d) of natural gas from Range Resources' production fields in the Marcellus Shale in southwestern Pennsylvania to Leach, Kentucky. Columbia asserts that, as a result of that request and to meet the market demands in the Marcellus Shale region, it has determined that it will need to make certain modifications to its pipeline system in Washington and Greene Counties, Pennsylvania. Columbia states that it will: (i) Isolate a portion of its transmission Line 1570 from Sharp Farm MS to Waynesburg Compressor Station; (ii) provide alternate sources of supply to continue service to the markets currently being served from Line 1570; and (iii) make minor modifications to other Columbia facilities in order to accommodate those alternate sources of supply.

More specifically, Columbia seeks approval to: (i) Increase the maximum allowable operating pressure (MAOP) on approximately 1.3 miles of 4-inch pipeline on Line 10331 from 206 pounds per square inch gauge (psig) to 330 psig; (ii) increase the MAOP on approximately 13.4 miles of 10-inch pipeline on Line 40 from 150 psig to 330 psig; (iii) increase the MAOP on approximately 0.82 miles of 8-inch pipeline of Line 708 from 280 psig to 330 psig; (iv) replace approximately 0.4 miles of 4-inch pipeline and appurtenances with a like amount of 10-inch pipeline and appurtenances on Line 36; (v) replace approximately 2.8 miles of 3-inch pipeline and appurtenances with a like amount of 10-inch pipeline and appurtenances on Line 628; (vi) replace approximately 0.07 miles of 10-inch pipeline and appurtenances with a like amount of 10-inch pipeline and appurtenances on Line 40; (vii) construct approximately 1.8 miles of 12-inch pipeline and appurtenances to extend Line 7215; (viii) construct approximately 1.14 miles of 6-inch pipeline and appurtenances on Line 10366; (ix) abandon the pipeline segments being replaced; and (x) abandon 23 mainline taps. Columbia estimates the cost associated with the construction of the subject facilities as approximately $16,500,000.

Any questions regarding the application should be directed to Frederic J. George, Senior Counsel, Columbia Gas Transmission, LLC, PO Box 1273, Charleston, West Virginia 22030-0146, at (304) 357-2359.

Any person may, within 60 days after the issuance of the instant notice by the Commission, file pursuant to Rule 214 of the Commission's Procedural Rules (18 CFR 385.214) a motion to intervene or notice of intervention. Any person filing to intervene or the Commission's staff may, pursuant to § 157.205 of the Commission's regulations under the NGA (18 CFR 157.205), file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-14937 Filed 6-24-09; 8:45 am]

BILLING CODE 6717-01-P